DEPARTMENT OF JUSTICE

[OMB Number 1122—NEW]

Agency Information Collection Activities; Proposed eCollection eComments Requested; New Collection: Domestic Violence and Housing Technical Assistance Consortium Safe Housing Needs Assessment

AGENCY: Office on Violence Against Women, Department of Justice.

ACTION: 60-Day notice.

SUMMARY: The Department of Justice, Office on Violence Against Women (OVW) will be submitting the following information collection request to the Office of Management and Budget (OMB) for review and approval in accordance with the Paperwork Reduction Act of 1995.

DATES: Comments are encouraged and will be accepted for 60 days until January 9, 2017.

FOR FURTHER INFORMATION CONTACT: If you have additional comments especially on the estimated public burden or associated response time, suggestions, or need a copy of the proposed information collection instrument with instructions or additional information, please contact Cathy Poston, Office on Violence Against Women, at 202-514-5430 or Catherine.poston@usdoj.gov.

SUPPLEMENTARY INFORMATION: Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Domestic Violence and Housing Technical Assistance Consortium Safe Housing Needs Assessment.

(3) Agency form number, if any, and the applicable component of the Department of Justice sponsoring the collection: Form Number: 1122-NEW. U.S. Department of Justice, Office on Violence Against Women.

(4) Affected public who will be asked or required to respond, as well as a brief abstract: The affected public includes housing/homelessness providers and domestic violence/sexual assault service providers.

Domestic violence is a major cause of homelessness, particularly for families with children. Among those families currently experiencing homelessness, more than 80 percent had previously experienced domestic violence. According to the U.S. Conference of Mayors, in 2008, 28% of families were homeless because of domestic violence and domestic violence is often cited as the primary cause of homelessness. There is a significant need for housing programs that offer supportive services and resources to victims of domestic violence and their children in ways that are trauma-informed and culturally relevant. The Administration for Children and Families (ACF), Family and Youth Services Bureau, Division of Family Violence Prevention and Services (DFVPS), the US Department of Justice Office of Justice Programs Office for Victims of Crime (OJP/OVC), Office on Violence Against Women (OVW), and the Department of Housing and Urban Development (HUD) have established a federal technical assistance consortium that will provide national domestic violence and housing training, technical assistance, and resource development. The Domestic Violence and Housing Technical Assistance Consortium will implement a federally coordinated approach to providing resources, program guidance, training, and technical assistance to domestic violence, homeless, and housing service providers.

The Safe Housing Needs Assessment will be used to determine the training and technical assistance needs of organizations providing safe housing for domestic violence victims and their families.

The Safe Housing Needs Assessment will gather input from community service providers, coalitions and continuums of care. This assessment is the first of its kind aimed at simultaneously reaching the domestic and sexual violence field, as well as the homeless and housing field. The assessment seeks to gather information on topics ranging from the extent to which both fields coordinate to provide safety and access to services for domestic and sexual violence survivors within the homeless system, to ways in which programs are implementing innovative models to promote long-term housing stability for survivors and their families. Additionally, this assessment seeks to identify specific barriers preventing collaboration across these fields, as well as promising practices. The results will help the Consortium provide organizations and communities with the tools, strategies and support necessary to improve coordination between domestic violence/sexual assault service providers and homeless and housing service providers, so that survivors and their children can ultimately avoid homelessness and live free from abuse.

(5) An estimate of the total number of respondents and the amount of time estimated for an average respondent to respond/reply: It is estimated that it will take the approximately 78,660 respondents approximately fifteen minutes to complete an online assessment tool.

(6) An estimate of the total public burden (in hours) associated with the collection: The total annual hour burden to complete the data collection forms is 19,665 hours, that is 78,660 organizations completing an assessment tool one time with an estimated completion time being fifteen minutes.

If additional information is required contact: Jerri Murray, Department Clearance Officer, United States Department of Justice, Justice Management Division, Policy and Planning Staff, Two Constitution Square, 145 N Street NE., 3E.405B, Washington, DC 20530.

Dated: November 3, 2016.
Jerri Murray,
Department Clearance Officer for PRA, U.S. Department of Justice.

[FR Doc. 2016-26920 Filed 11-7-16; 8:45 am]

BILLING CODE 4410-FX-P